NATIONAL ARCHIVES AND RECORDS ADMINISTRATION

[NARA-2022-005]

Freedom of Information Act (FOIA) Advisory Committee; Solicitation for Committee Member Nominations

AGENCY: Office of Government Information Services (OGIS), National Archives and Records Administration (NARA).

ACTION: Notice.

SUMMARY: The National Archives and Records Administration (NARA) is soliciting applications to fill a vacancy on the Freedom of Information Act (FOIA) Federal Advisory Committee (Committee). We are seeking a representative from a Federal agency who has significant expertise in FOIA. The new member will serve the remainder of the term through June 30, 2022.

DATES: We must receive nominations for Committee membership no later than 5:00 p.m. EDT on Wednesday, October 27, 2021.

ADDRESSES: Email nominations to OGIS at foia-advisory-committee@nara.gov. We cannot accept submissions by mail or delivery during this time period because the building is closed due to COVID-19 restrictions. If you are unable to submit by email, please contact Kirstin Mitchell, Designated Federal Officer, at the contact information below.

FOR FURTHER INFORMATION CONTACT: Kirsten Mitchell by phone at 202-741-5775 or by email at foia-advisory-committee@nara.gov.

SUPPLEMENTARY INFORMATION:

I. Background

The National Archives and Records Administration (NARA) established the Freedom of Information Act (FOIA) Advisory Committee in accordance with the United States Second Open Government National Action Plan, released on December 5, 2013, and operates under the directive in FOIA, 5 U.S.C. 552(h)(2)(C), that the Office of Government Information Services (OGIS) within NARA “identify procedures and methods for improving compliance” with FOIA. The Committee is governed by the provisions of the Federal Advisory Committee Act, as amended, 5 U.S.C. App.

II. Charter and Membership Appointment Terms

NARA initially chartered the Committee on May 20, 2014. The Archivist of the United States renewed the Committee's charter for a fourth term on May 7, 2020, and in July 2020 appointed 20 members to serve for two years, concurrent with the Committee charter. A Government representative member has resigned from the Committee, creating a vacancy.

III. Committee Membership

The 2020-2022 FOIA Advisory Committee consists of no more than 20 individuals who include a range of Government and non-Government representatives. Members are selected in accordance with the charter.

Nominations for the vacant seat should be FOIA professionals from Cabinet-level departments or non-Cabinet agencies. For more information about the Committee's charter and membership, see https://www.archives.gov/ogis/foia-advisory-committee/2020-2022-term.

IV. Committee Members' Responsibilities

All Committee members are expected to attend a minimum of four virtual or in-person public meetings remaining in the two-year Committee term that ends June 30, 2022. All Committee members are expected to volunteer for one or more of four working subcommittees that meet at various times during the two-year term. The remaining meetings of the 2020-2022 Committee term are scheduled for Thursday, December 9, 2021; Thursday, May 5, 2002; and Thursday, June 9, 2022. The December meeting will be conducted virtually.

V. Nomination Information

All nominations for Committee membership must include the following information:

1. If you are self-nominating: Your name, title, and relevant contact information (including telephone and email address);

2. If you are nominating another individual: The nominee's name, title, and relevant contact information;

3. For both self-nominations and nominations by other individuals: (a) A short paragraph or biography about the nominee (fewer than 250 words), summarizing their resumé or otherwise highlighting the contributions the nominee would bring to the Committee; and (b) the nominee's resumé or curriculum vitae.

The Archivist of the United States will review the nominations and make final appointments prior to Committee meeting in December. OGIS will notify in writing the nominee the Archivist selects.

Tasha M. Ford,
Committee Management Officer.

[FR Doc. 2021-22857 Filed 10-19-21; 8:45 am]

BILLING CODE 7515-01-P